OFFICE OF PERSONNEL MANAGEMENT

Personnel Demonstration Project; Alternative Personnel Management System for the U.S. Department of Commerce

AGENCY: Office of Personnel Management.

ACTION: Notice of modification to the Department of Commerce Personnel Management Demonstration Project.

SUMMARY: The Office of Personnel Management (OPM) has authority to conduct demonstration projects that experiment with new and different human resources management concepts to determine whether changes in policies and procedures result in improved Federal human resources management. OPM approved a demonstration project covering several operating units of the U.S. Department of Commerce (DoC). OPM must approve all modifications to approved demonstration project plans. This notice proposes to further expand the coverage of the demonstration project to include two bargaining units contained within organizations already included in the project. This notice also announces the realignment of the Space Environment Center (SEC), Boulder, Colorado, from the Office of Atmospheric Research (OAR) of the National Oceanic and Atmospheric Administration (NOAA) to the National Weather Service (NWS) of NOAA located in Boulder, Colorado. This notice also adds several new occupational series used in the project and identifies changes to the Federal Register notice document Volume 68, Number 180, on page 54506, dated Wednesday, September 17, 2003. These changes do not require waivers.

DATES: This notice modifying the DoC Demonstration Project may be implemented upon publication.

FOR FURTHER INFORMATION CONTACT: Department of Commerce: Joan Jorgenson, U.S. Department of Commerce, 14th and Constitution Avenue, NW., Room 5014, Washington, DC 20230, (202) 482-4233. Office of Personnel Management: Jill Rajaee, U.S. Office of Personnel Management, 1900 E Street, NW., Room 7667, Washington, DC 20415, (202) 606-0836.

SUPPLEMENTARY INFORMATION:

1. Background

The Office of Personnel Management (OPM) approved the Department of Commerce (DoC) Demonstration Project and published the final plan in the Federal Register Volume 62, Number 247, Part II, on Wednesday, December 24, 1997. The project was implemented on March 29, 1998, and modified in the Federal Register on Thursday, September 30, 1999, Volume 64, Number 189 (Notices)(Pages 52810-52812) and on Tuesday, August 12, 2003, Volume 68, Number 155 (Notices)(Pages 47948-47949). OPM approved a request to extend the DoC Demonstration Project for five years as stated in an administrative letter from OPM, dated February 14, 2003. The project was approved for expansion in Federal Register notice Volume 68, Number 180, dated Wednesday, September 17, 2003 (Notices) (Pages 54505-54507) to include an additional 1,505 employees.

Authority: 5 U.S.C. 4703; 5 CFR 470.31.5.

Office of Personnel Management.
Dan G. Blair,
Acting Director.

Table of Contents

I. Executive Summary

II. Basis for Project Plan Modification

III. Changes to the Project Plan

I. Executive Summary

The Department of Commerce (DoC) Demonstration Project utilizes many features similar to those implemented by the National Institute of Standards and Technology (NIST) demonstration project in 1988. The DoC Demonstration Project supports several key objectives: To simplify the classification system for greater flexibility in classifying work and paying employees; to establish a performance management and rewards system for improving individual and organizational performance; and to improve recruitment and retention to attract highly qualified candidates. The project is designed to test whether the interventions of the NIST project, which is now a permanent alternative personnel system, could be successful in other DoC environments. The current participating organizations include the Office of the Chief Financial Officer and Assistant Secretary for Administration (CFO/ASA), the Technology Administration, the Bureau of Economic Analysis, the Institute for Telecommunication Sciences, and three units of the National Oceanic and Atmospheric Administration: Office of Oceanic and Atmospheric Research, National Marine Fisheries Service, and the National Environmental Satellite, Data, and Information Service.

II. Basis for Project Plan Modification

(1) Employees of two bargaining units within the Office of the Chief Financial Officer and Assistant Secretary for Administration (CFO/ASA) have requested participation in the DoC Demonstration Project. The Washington Printing and Graphic Communications Union (WPGC), Local 1-C of the Graphic Communications International Union, AFL-CIO, has requested inclusion. This unit consists of all employees engaged in printing and production work, in the Publications and Graphics Division, Office of Administrative Services (OAS), located in Washington, DC. The American Federation of Government Employees, Local 2186, AFL-CIO, has requested inclusion. This unit consists of Police Officers and Security Guards in the Office of Security (OSY), located in Boulder, Colorado. Appropriate consultations have been conducted with officials of both locals, and all employees have received a specific briefing on the demonstration project. Management will also notify the employee organizations representing these employees and provide all employees with a copy of this Federal Register notice upon publication.

(2) The Space Environment Center (SEC) currently consists of 50 employees who are participating in the project whose duty location is Boulder, Colorado. The SEC is an organizational component of the Office of Atmospheric Research (OAR), which is a component of the National Oceanic and Atmospheric Administration (NOAA). In order to improve organizational efficiency, NOAA realigned the SEC from OAR to the National Weather Service (NWS), another organizational component of NOAA. The duty location of these employees remains Boulder, Colorado. Appropriate consultations with the National Weather Service Employees Organization (NWSEO) were conducted. All employees of the Space Environment Center have received a specific briefing on this realignment of the demonstration project. Management also notified the employee organizations representing these employees and will provide all employees with a copy of this Federal Register notice upon publication.

No other organizational components of NWS are participating in the project. The SEC remains a separate and distinct organization consisting solely of employees participating in the project.

(3) In the Federal Register notice Volume 68, Number 180, on page 54506, dated Wednesday, September 17, 2003, the following corrections are noted:

On page 54506, in C. Changes to the Plan (1) Section II. E: Participating Employees, move the series 0083, Police, and the series 0085, Security Guard, from the Administrative (ZA) Career Path to the Support (ZS) Career Path. Move the series 0350, Equipment Operator, from the Scientific and Engineering Technician (ZT) Career Path to the Support (ZS) Career Path. Move the series 0150, Geography, and the series 0170, History, from the Administrative (ZA) Career Path to the Scientific and Engineering (ZP) Career Path. Move the series 0963, Legal Instruments Examining, from the Administrative (ZA) Career Path to the Support (ZS) Career Path.

The changes to the placement of these series in different career paths will have no impact on the pay, series, or pay band classification of employees in these series. Employees have been notified of these changes, and management will provide a copy of this approved Federal Register notice to the affected employees and to the employee organizations representing these employees.

III. Changes to the Project Plan

The following discussion refers readers to the substantive changes to the project plan.

(1) Section II. D. Participating Organizations. Add:

National Weather Service (NWS) to the participating organizations on behalf of the 50 reorganized employees.

DoC has realigned an organization within the Office of Atmospheric Research (OAR) containing 50 employees already included in the DoC Demonstration Project to NWS. This realignment will not increase the total number of employees covered by the DoC Demonstration Project beyond the 5,000 statutory limit. The total number of employees currently covered by the project is 4,285.

NWS, a major subcomponent of NOAA, provides weather, hydrologic, and climate forecasts and warnings for the United States, its territories, adjacent waters, and ocean areas, for the protection of life and property and the enhancement of the national economy. NWS data and products form a national information database and infrastructure which can be used by other Governmental agencies, the private sector, the public, and the global community.

The dominant occupation within NWS is Meteorologist. Other key occupations are Meteorologist Technician, Physical Scientist, and Hydrologist.

(2) Section II. E: Participating Employees.

The following bargaining units are added to Table 4—Bargaining Unit Coverage.

Operating unit | Location | Union local
CFO/ASA | Boulder, Co | AFGE 2186
CFO/ASA | Washington, DC | WPGC 1-C

(3) Section II. E: Participating Employees

The following series are added to Table 2.

Administrative (ZA) Career Path
0132 | Intelligence Series.
0299 | Human Resources Management Student Trainee Series.
1099 | Information and Arts Student Trainee Series.
1199 | Business and Industry Student Trainee Series.
1499 | Library and Archives Student Trainee Series.
1699 | Equipment and Facilities Management Student Trainee.
1899 | Investigation Student Trainee Series.
2099 | Supply Student Trainee Series.
2199 | Transportation Student Trainee Series.

[FR Doc. 05-13071 Filed 7-1-05; 8:45 am]

BILLING CODE 6325-43-P